ENVIRONMENTAL PROTECTION AGENCY

[FRL-7054-3]

Workgroup and Study Assembly Meetings for the Longitudinal Cohort Study of Environmental Effects on Children

AGENCY: Environmental Protection Agency.

ACTION: Notice of public meeting: Workgroup and Study Assembly Meetings regarding a longitudinal cohort study of environmental effects on mothers and children.

SUMMARY: The Environmental Protection Agency (EPA) is announcing a two-day meeting co-sponsored by the Department of Health and Human Services (DHHS). IQ Solutions, Inc., a government contractor, is coordinating the logistics of the meetings. Members of Workgroups focusing on various issues related to study planning will meet on the first day, and the second day will be a meeting of the Study Assembly. The purpose of the Study Assembly meeting is to discuss the status of planning a longitudinal cohort study of environmental effects on the health and well-being of children. Content of the meeting will include development of planning for the study thus far, and reports on specific issues including, for example, proposed hypotheses for the study, issues of longitudinal cohort design, information technology, and ethical issues.

The Study Assembly is made up of all stakeholders interested in this study. Its purpose is to disseminate information to members and to serve as a conduit for bringing information and views from individuals and various organizations to the study organization. The Study Assembly is open to anyone who indicates an interest in the study, and includes representatives of all stakeholders, both inside and outside of government, advocacy groups, industry, academic institutions, state and local governments, and community groups. To become a member of the Study Assembly, interested persons should send an email to nichdcohort@mail.nih.gov, and indicate whether they would like to participate in a Workgroup and area(s) of interest or expertise. Those who are not currently members of a Workgroup are welcome as observers during the workgroup meetings on Monday, October 15.

DATES: The meeting convenes from 8:30 a.m.-5:30 p.m. each day. Workgroups meet on Monday, October 15, 2001, and the entire Study Assembly meets Tuesday, October 16, 2001. Registration opens on Sunday, October 14, 2001, from 2-7 p.m. and begins at 7:00 a.m. each day of the meeting.

ADDRESSES: The meeting site is the Sheraton Premiere Hotel, 8661 Leesburg Pike, Vienna, VA. Interested individuals can register for the Study Assembly meeting and/or to observe the Workgroup meetings. Space is limited. Advance registration is required. Those planning to attend must register no later than September 28, 2001.

FOR FURTHER INFORMATION CONTACT: To register to attend the Study Assembly meeting and/or to observe the Workgroup meetings, visit the registration website, http://lcs.iqsolutions.com, or call IQ Solutions at 301-984-1471, ext. 353, and ask for Longitudinal Registration. All meetings will take place at the Sheraton Premiere Hotel at Tysons Corner, in Vienna, Virginia, October 15-16, 2001. Discounted sleeping rooms are available. Information on hotel reservations is available on the website.

For further information about the details of the meeting itself, contact Dr. Peter Scheidt, National Institute of Child Health and Human Development, National Institutes of Health, U.S. Department of Health and Human Services, Room 7B05, 6100 Executive Blvd., Bethesda, MD 20892; telephone: 301-451-6421; facsimile: 301-402-2084; e-mail: nichdcohort@mail.nih.gov.

Dated: August 31, 2001.
Art Payne,
Acting Director, National Center for Environmental Assessment.

[FR Doc. 01-22752 Filed 9-10-01; 8:45 am]

BILLING CODE 6560-50-P